DEPARTMENT OF THE INTERIOR

Bureau of Land Management

[LLIDT03000 LF20000ES.JS0000 LFESFTF60000]

Notice of Temporary Closure on Public Lands in Gooding and Elmore Counties, ID

AGENCY: Bureau of Land Management, Interior.

ACTION: Notice of temporary closure.

SUMMARY: Notice is hereby given that the Blair Fire closure to motorized vehicle use is in effect on public lands administered by the Four Rivers and Shoshone Field Offices, Bureau of Land Management (BLM).

DATES: The closure will be in effect on the date this notice is published in the Federal Register and will remain in effect until September 5, 2013, or until rescinded or modified by an authorized officer.

FOR FURTHER INFORMATION CONTACT: Terry Humphrey, Four Rivers Field Manager, at 3948 Development Avenue, Boise, Idaho 83705, via email at thumphrey@blm.gov, or phone (208) 384-3430 or Ruth Miller, Shoshone Field Manager, at 400 West F St., Shoshone, Idaho 83352, via email at ramiller@blm.gov, or phone (208) 732-7227. Persons who use a telecommunications device for the deaf (TDD) may call the Federal Information Relay Service (FIRS) at (800) 877-8339 to contact the above individuals during normal business hours. The FIRS is available 24 hours a day, 7 days a week, to leave a message or question with the above individuals. You will receive a reply during normal hours.

SUPPLEMENTARY INFORMATION: The Blair Fire motorized closure affects public lands burned August 15, 2011, by the Blair Fire, 1 mile north of King Hill, Idaho. The legal description of the affected public lands is:

Boise Meridian, Idaho

T. 3 S., R. 10 E.,

Sec. 35.

T. 4 S., R. 10 E.,

Secs. 1 and 2;

Secs. 12 to 15, inclusive;

Sec. 17;

Secs. 20 to 28, inclusive;

Secs. 33 to 35, inclusive.

T. 5 S., R. 10 E.,

Secs. 3 and 4.

T. 3 S., R. 11 E.,

Secs. 31 and 33.

T. 4 S., R. 11 E.,

Secs. 3 to 15, inclusive;

Secs. 17 to 35, inclusive.

The areas described contain approximately 35,551.84 acres in Elmore County.

Boise Meridian, Idaho

T. 4 S., R. 12 E.,

Secs. 16 to 22, inclusive;

Secs. 27 to 30, inclusive.

T. 5 S., R. 12 E.,

Secs. 4 and 6.

The areas described contain approximately 8,312.02 acres in Gooding County. The Blair Fire motorized vehicle closure will support several post-fire stabilization and rehabilitation objectives as set forth in the environmental assessments for the 2005 Boise District Fire Emergency Stabilization and Rehabilitation Plan and the 2005 Shoshone and Burley Normal Fire Rehabilitation Plan: (1) Allow burned areas to re-establish a vegetative cover, which protects the soil from erosion and provides for moisture retention; (2) allow seeded shrub, forb, and grass species to become established; (3) allow remaining plants to recover from the effects of the fire; and (4) help slow the spread of noxious weeds. In addition, the closure will help ensure the long-term viability of slickspot peppergrass, a species listed as threatened under the Endangered Species Act. Slickspots, which provide potential habitat for slickspot peppergrass, are particularly susceptible to damage from motorized vehicles under post-fire conditions.

The closure will also help ensure the long-term viability of habitat for wildlife populations in the area by protecting key year-round sage-grouse habitat and crucial winter habitat for mule deer, which suffered significant losses in the Blair Fire. For the duration of the closure, cross-country motorized use is prohibited. The BLM, Walker Reservoir, and Lower Hog Creek roads that access the burn area will be open from June 1 through December 31, 2012, and from June 1 through September 5, 2013. At all times, the area will be open for mechanized vehicles, pedestrians, equestrian riders, and other non-motorized transport.

The BLM will post closure signs at main entry points to the closed areas and/or other locations on-site. This closure will be posted in the Boise District and Twin Falls District BLM offices. Maps of the affected area and other documents associated with this closure are available at 3948 Development Avenue, Boise, Idaho 83705 and 2536 Kimberly Road, Twin Falls, Idaho 83301.

Under the authority of Section 303(a) of the Federal Land Policy and Management Act of 1976 (43 U.S.C. 1733(a)), 43 CFR 8360.0-7, and 43 CFR 8364.1, the BLM will enforce the following rules within the Blair Fire closure:

Motorized vehicles may not be used in the closed area except during the stated periods and over the designated routes described above.

Exemptions: The following persons are exempt from this order: Federal, State, and local officers and employees in the performance of their official duties; members of organized rescue or fire-fighting forces in the performance of their official duties; and persons with written authorization from the BLM.

Penalties: Any person who violates the above rule may be tried before a United States Magistrate and fined no more than $100,000, imprisoned for no more than 12 months, or both. Violators may also be subject to the enhanced fines provided for in 18 U.S.C. 3571.

Authority: 43 CFR 8364.1.

Ruth Miller,
Shoshone Field Manager.
Matthew McCoy,
Acting Four Rivers Field Manager.

[FR Doc. 2012-5707 Filed 3-8-12; 8:45 am]

BILLING CODE 4310-GG-P